DEPARTMENT OF TRANSPORTATION

Federal Highway Administration

Buy America Waiver Notification

AGENCY: Federal Highway Administration (FHWA), DOT.

ACTION: Notice.

SUMMARY: This notice provides information regarding the FHWA's finding that a Buy America waiver is appropriate for the use of non-domestic Main Submersible pumps (3 @ 3,000 gallons/minute), (1 Low Flow Submersible pump @ 1,000 gallons/minute), (1 Low Flow Sump Pump @ 20 gallons/minute) for rehabilitation of a pump station in the State of Illinois.

DATES: The effective date of the waiver is December 6, 2012.

FOR FURTHER INFORMATION CONTACT: For questions about this notice, please contact Mr. Gerald Yakowenko, FHWA Office of Program Administration, (202) 366-1562, or via email at gerald.yakowenko@dot.gov. For legal questions, please contact Mr. Michael Harkins, FHWA Office of the Chief Counsel, (202) 366-4928, or via email at michael.harkins@dot.gov. Office hours for the FHWA are from 8:00 a.m. to 4:30 p.m., e.t., Monday through Friday, except Federal holidays.

SUPPLEMENTARY INFORMATION:

Electronic Access

An electronic copy of this document may be downloaded from the Federal Register's home page at: http://www.archives.gov and the Government Printing Office's database at: http://www.access.gpo.gov/nara.

Background

The FHWA's Buy America policy in 23 CFR 635.410 requires a domestic manufacturing process for any steel or iron products (including protective coatings) that are permanently incorporated in a Federal-aid construction project. The regulation also provides for a waiver of the Buy America requirements when the application would be inconsistent with the public interest or when satisfactory quality domestic steel and iron products are not sufficiently available. This notice provides information regarding the FHWA's finding that a Buy America waiver is appropriate to use non-domestic Main Submersible pumps (3 @ 3,000 gallons/minute), (1 Low Flow Submersible pump @ 1,000 gallons/minute), (1 Low Flow Sump Pump @ 20 gallons/minute) for rehabilitation of a pump station in the State of Illinois.

In accordance with Title I, Division C, section 122 of the “Consolidated and Further Continuing Appropriations Act, 2012” (Pub. L. 112-55), the FHWA published a notice of intent to issue a waiver on its Web site for Main Submersible pumps (3 @ 3,000 gallons/minute), (1 Low Flow Submersible pump @ 1,000 gallons/minute), (1 Low Flow Sump Pump @ 20 gallons/minute) (http://www.fhwa.dot.gov/construction/contracts/waivers.cfm?id=74) on May 3rd. The FHWA received six comments in response to the publication. Three commenters indicated that the waiver will only help other countries and, therefore, opposed the waiver. Three others are in support only when the product is not available domestically. None of the commenters provided information on possible domestic manufacturers. During the 15-day comment period, the FHWA conducted additional nationwide review to locate potential domestic manufacturers of Main Submersible pumps (3 @ 3,000 gallons/minute), (1 Low Flow Submersible pump @ 1,000 gallons/minute), (1 Low Flow Sump Pump @ 20 gallons/minute). The National Institute of Standards and Technology—Manufacturing Extension Partnership also conducted supplier scouting on submersible pumps and reported that there were no domestic matching items for the pumps. Based on all the information available to the agency, the FHWA concludes that there are no domestic manufacturers of Main Submersible pumps (3 @ 3,000 gallons/minute), (1 Low Flow Submersible pump @ 1,000 gallons/minute), (1 Low Flow Sump Pump @ 20 gallons/minute).

In accordance with the provisions of section 117 of the SAFETEA-LU Technical Corrections Act of 2008 (Pub. L. 110-244, 122 Stat. 1572), the FHWA is providing this notice as its finding that a waiver of Buy America requirements is appropriate. The FHWA invites public comment on this finding for an additional 15 days following the effective date of the finding. Comments may be submitted to the FHWA's Web site via the link provided to Illinois waiver page noted above.

Authority: 23 U.S.C. 313; Pub. L. 110-161, 23 CFR 635.410.

Issued on: November 26, 2012.
Victor M. Mendez,
Federal Highway Administrator.

[FR Doc. 2012-29326 Filed 12-4-12; 8:45 am]

BILLING CODE 4910-22-P